DEPARTMENT OF STATE

[Public Notice 7892; OMB Control Number 1405-xxxx; Form Number: SV2011-0031]

30-Day Notice of Proposed Information Collection: English Language Evaluation Surveys

ACTION: Notice of request for public comment and submission to OMB of proposed collection of information.

SUMMARY: To meet OMB and Congressional reporting requirements, this request for a new information collection clearance will allow ECA/P/V, as part of the English Language Evaluation, to conduct surveys of participants in the ETA Program, E-Teacher Scholarship program, and the English Language Specialist Program. Participants are those who went on the programs between the years of 2004 and 2009. Collecting this data will help ECA/P/V assess the impact the programs have had on the respective participants, as well as the effectiveness of these programs in meeting their goals.

• Title of Information Collection: English Language Evaluation: Fulbright English Teaching Assistantship (ETA) Program Survey.

• OMB Control Number: None.

• Type of Request: New Collection.

• Originating Office: Bureau of Educational and Cultural Affairs, Office of Policy and Evaluation, Evaluation Division (ECA/P/V).

• Form Number: SV2011-0031.

• Respondents: U.S. participants of the ETA program from 2004-2009.

• Estimated Number of Respondents: 2,350 annually.

• Estimated Number of Responses: 2,350 annually.

• Average Hours per Response: 40 minutes.

• Total Estimated Burden: 1,567 hours annually.

• Frequency: One time.

• Obligation to Respond: Voluntary.

• Title of Information Collection: English Language Evaluation: English Language Specialist Program Survey.

• OMB Control Number: None.

• Type of Request: New Collection.

• Originating Office: Bureau of Educational and Cultural Affairs, Office of Policy and Evaluation, Evaluation Division (ECA/P/V).

• Form Number: SV2011-0032.

• Respondents: U.S. Participants of the English Language Specialist Program from 2004-2009.

• Estimated Number of Respondents: 250 annually.

• Estimated Number of Responses: 250 annually.

• Average Hours per Response: 40 minutes.

• Total Estimated Burden: 167 hours annually.

• Frequency: One time.

• Obligation to Respond: Voluntary.

• Title of Information Collection: English Language Evaluation: E-Teacher Scholarship Program Survey.

• OMB Control Number: None.

• Type of Request: New Collection.

• Originating Office: Bureau of Educational and Cultural Affairs, Office of Policy and Evaluation, Evaluation Division (ECA/P/V).

• Form Number: SV2011-0033.

• Respondents: International participants of the E-Teacher Scholarship Program from 2004-2009.

• Estimated Number of Respondents: 800 annually.

• Estimated Number of Responses: 800 annually.

• Average Hours per Response: 40 minutes.

• Total Estimated Burden: 533 hours annually.

• Frequency: One time.

Obligation to Respond: Voluntary.

DATES: Submit comments to the Office of Management and Budget (OMB) for up to 30 days from May 21, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Michelle Hale, ECA/P/V, SA-5, C2 Floor, Department of State, Washington, DC 20522 who may be reached on 202-632-6312 or at HaleMJ2@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

To meet OMB and Congressional reporting requirements, this request for a new information collection clearance will allow ECA/P/V, as part of the English Language Evaluation, to conduct surveys of participants in the ETA Program, E-Teacher Scholarship program, and the English Language Specialist Program. Participants are those who went on the programs between the years of 2004 and 2009. Collecting this data will help ECA/P/V assess the impact the programs have had on the respective participants, as well as the effectiveness of these programs in meeting their goals.

Methodology

For all three surveys, the evaluation data will be collected via Vovici, an on-line surveying tool.

Dated: April 25, 2012.
Matt Lussenhop,
Director of the Office of Policy and Evaluation, Bureau of Educational and Cultural Affairs, Department of State.

[FR Doc. 2012-12254 Filed 5-18-12; 8:45 am]

BILLING CODE 4710-05-P